DEPARTMENT OF COMMERCE

National Oceanic and Atmospheric Administration

50 CFR Part 648

[Docket No. 000119014-0137-02; I.D. 100400D]

Fisheries of the Northeastern United States; Scup Fishery; Commercial Quota Harvested for Winter II Period

AGENCY: National Marine Fisheries Service (NMFS), National Oceanic and Atmospheric Administration (NOAA), Commerce.

ACTION: Commercial quota harvest for Winter II period.

SUMMARY: NMFS announces that the Winter II period scup commercial fishery will close 0001 hours November 3, 2000. Federally permitted commercial vessels may not land scup in any state from Maine through North Carolina for the remainder of the 2000 Winter II quota period (through December 31, 2000). Regulations governing the scup fishery require publication of this notification to advise the coastal states from Maine through North Carolina that the quota has been harvested and to advise Federal vessel permit holders and Federal dealer permit holders that no commercial quota is available for landing for the remainder of the Winter II period.

DATES: Effective 0001 hours, November 3, 2000, through 2400 hours, December 31, 2000.

FOR FURTHER INFORMATION CONTACT: Jennifer L. Anderson, Fishery Management Specialist, (978) 281-9226.

SUPPLEMENTARY INFORMATION: Regulations governing the scup fishery are found at 50 CFR part 648. The regulations require annual specification of a commercial quota that is allocated into three quota periods. The Winter II commercial quota (November through December) is distributed to the coastal states from Maine through North Carolina on a coastwide basis. The process to set the annual commercial quota and the seasonal allocation is described in § 648.120.

The total commercial quota for scup for the 2000 calendar year was set at 2,534,160 lb (1,149,476 kg) (65 FR 33486; May 24, 2000). The Winter II period quota was initially set at 403,945 lb (183,226 kg). As specified in § 648.120, landings in excess of the commercial quota in the 1999 Winter II period were deducted from the Winter II period allocation this year, resulting in a final Winter II quota allocation of 70,356 lb (31,913 kg)(65 FR 50463).

Section 648.121 requires the Administrator, Northeast Region, NMFS (Regional Administrator) to monitor the commercial scup quota for each quota period and, based upon dealer reports, state data, and other available information, to determine when the commercial quota for a period has been harvested. NMFS is required to publish notification in the Federal Register advising that, effective upon a specific date, the scup commercial quota has been harvested, and notifying vessel and dealer permit holders that no commercial quota is available for landing scup for the remainder of the period. The Regional Administrator has determined, based on the limited Winter II quota allocation and historic landings information, that the scup commercial quota for the 2000 Winter II period will be harvested in 48 hours and that no further quota is available through December 31, 2000.

Section 648.4(b) provides that Federal scup moratorium permit holders agree as a condition of the permit not to land scup in any state after NMFS has published a notification in the Federal Register stating that the commercial quota for the period has been harvested and that no commercial quota for scup is available. Therefore, effective 0001 hours, November 3, 2000, further landings of scup by vessels holding Federal scup moratorium permits are prohibited through December 31, 2000. Should the Winter II quota not be harvested during the 48-hour opening, the fishery may reopen at a later time to allow attainment of the period’s allocation. The Winter I period for commercial scup harvest will open on January 1, 2001. Effective 0001 hours, November 3, 2000, federally permitted dealers are also advised that they may not purchase scup from federally permitted vessels that land in coastal states from Maine through North Carolina for the remainder of the Winter II period (through December 31, 2000).

Classification

This action is required by 50 CFR part 648 and is exempt from review under Executive Order 12866.

Authority: 16 U.S.C. 1801 et seq.

Dated: October 5, 2000.
Bruce C. Morehead,
Acting Director, Office of Sustainable Fisheries, National Marine Fisheries Service.

[FR Doc. 00-26187 Filed 10-6-00; 3:39 pm]

BILLING CODE: 3510-22 -S